DEPARTMENT OF AGRICULTURE

Federal Crop Insurance Corporation

Crop Insurance Education in Targeted States (Targeted States Program)

Announcement Type: Modification—Competitive Cooperative Agreements. This announcement modifies the Request for Application Notice published in the Federal Register, May 24, 2004 (Vol. 69, No. 100, Pages 29498-29503). The Dates and Summary portions have been modified.

CFDA Number: 10.458.

DATES: Applications are due 5 p.m. e.d.t., August 11, 2004.

SUMMARY: The following paragraph has been added to the beginning of the Summary portion of the May 24, 2004, Federal Register Notice:

The Risk Management Agency (RMA) did not receive complete and valid application packages for the States of Nevada, Pennsylvania, and West Virginia under the original Request for Application Notice published in the Federal Register on May 24, 2004, for the Crop Insurance Education in Targeted States Program (Targeted States Program). RMA is re-announcing its Funding Opportunity—Request for Applications under the Targeted States Program for the States of Nevada, Pennsylvania, and West Virginia. Applicants who previously submitted an application under the May 24, 2004, Targeted States Program Request for Applications Notice for Nevada, Pennsylvania, and West Virginia must reapply in accordance with the original Notice published in the Federal Register on May 24, 2004 (http://www.rma.usda.gov/news/2004/05/04rfa-education.html).

All other portions and sections of the full text Notice remain unchanged.

FOR FURTHER INFORMATION CONTACT: Applicants and other interested parties are encouraged to contact: Michelle Fuller, USDA-RMA-RME, 1400 Independence Ave. SW., Stop 0808, (Portals Bldg., Suite 508), Washington, DC 20250-0808, phone: 202-720-6356, fax: 202-690-3605, e-mail: Michelle.Fuller@wdc.usda.gov. You may also obtain information regarding this announcement from the RMA Web site at: www.rma.usda.gov.

Dated: July 22, 2004.
Ross J. Davidson, Jr.,
Manager, Federal Crop Insurance Corporation.

[FR Doc. 04-17041 Filed 7-26-04; 8:45 am]

BILLING CODE 3410-08-P